FEDERAL COMMUNICATIONS COMMISSION

Open Commission Meeting, Thursday, December 15, 2016

December 8, 2016.

The Federal Communications Commission will hold an Open Meeting on the subjects listed below on Thursday, December 15, 2016 which is scheduled to commence at 10:30 a.m. in Room TW-C305, at 445 12th Street, SW., Washington, DC.

Item No. | Bureau | Subject
1 | CONSUMER & GOVERNMENTAL AFFAIRS | TITLE: Transition from TTY to Real-Time Text Technology (CG Docket No. 16-145); Petition for Rulemaking to Update the Commission's Rules for Access to Support the Transition from TTY to Real-Time Text Technology, and Petition for Waiver of Rules Requiring Support of TTY Technology (GN Docket No. 15-178).
|  | SUMMARY: The Commission will consider a Report and Order and Further Notice of Proposed Rulemaking to help achieve the transition from TTY technology to a reliable and interoperable means of providing real-time text communication over wireless Internet protocol-enabled networks and services.
2 | PUBLIC SAFETY & HOMELAND SECURITY | TITLE: Amendment of Part 11 of the Commission's Rules Regarding the Emergency Alert System (PS Docket No. 15-94).
|  | SUMMARY: The Commission will consider a Report and Order and Further Notice of Proposed Rulemaking to enhance the Emergency Alert System (EAS) as a tool for community emergency preparedness. The Report and Order improves alerting organization at the state and local levels, builds stronger community-based alerting exercise programs, and protects the EAS against accidental misuse and malicious intrusion. The Further Notice seeks comment on proposals to leverage technological advances to improve alerting and additional measures to preserve EAS security.
3 | INTERNATIONAL | TITLE: Update to Parts 2 and 25 Concerning Non-geostationary, Fixed-Satellite Service Systems and Related Matters.
|  | SUMMARY: The Commission will consider a Notice of Proposed Rulemaking to update, clarify, and streamline the Commission's rules to facilitate the deployment of recently proposed non-geostationary-satellite orbit, fixed-satellite service satellite systems.
4 | GENERAL COUNSEL | TITLE: Amendment of Part 0 of the Commission's Rules Regarding Public Information, the Inspection of Records, and Implementing the Freedom of Information Act.
|  | SUMMARY: The Commission will consider an Order that updates its Freedom of Information Act (FOIA) regulations consistent with the FOIA Improvement Act of 2016.
5 | WIRELESS TELE-COMMUNICATIONS | TITLE: Maritime Communications/Land Mobile, LLC, Order on Reconsideration and Memorandum Opinion and Order.
|  | SUMMARY: The Commission will consider an Order on Reconsideration and Memorandum Opinion and Order regarding the assignment of licenses held by Maritime Communications/Land Mobile, LLC.
6 | PUBLIC SAFETY & HOMELAND SECURITY | TITLE: Improving the Resiliency of Mobile Wireless Communications Networks, (PS Docket 13-239); Reliability and Continuity of Communications Networks, Including Broadband Technologies (PS Docket No. 11-60).
|  | SUMMARY: The Commission will consider an Order that evaluates the Wireless Network Resiliency Cooperative Framework submitted by members of the wireless industry.
7 | ENFORCEMENT | TITLE: Preferred Long Distance, Inc., Memorandum Opinion and Order.
|  | SUMMARY: The Commission will consider a Memorandum Opinion and Order that addresses a Petition for Reconsideration of a Forfeiture Order issued by the Commission for slamming and deceptive marketing.
* * * * * * *
CONSENT AGENDA
The Commission will consider the following subjects listed below as a consent agenda and these items will not be presented individually:
1 | MEDIA | TITLE: Action Mission Broadcasting, Inc., Application For Renewal of License For Television Station WUTR(TV), Utica, New York.
|  | SUMMARY: The Commission will consider an Order adopting a Consent Decree which resolves issues regarding potential violations of the Commission's rules and grants the license renewal application of WUTR(TV).
2 | MEDIA | TITLE: Applications of Immaculate Conception Apostolic School for a Construction Permit and Covering License for Noncommercial Educational Station DKJPT(FM), Colfax, California.
|  | SUMMARY: The Commission will consider a Memorandum Opinion and Order concerning the dismissal of a Petition for Reconsideration of a Media Bureau Order dismissing the Station's License Application and cancelling its construction permit.
3 | MEDIA | TITLE: Urbanmedia One, Application for New LPFM Station (WJPC-LP) at Chicago, IL.
|  | SUMMARY: The Commission will consider a Memorandum Opinion and Order concerning the dismissal of a Petition for Reconsideration of the grant of an application to construct a new low power FM station in Chicago, Illinois.
4 | MEDIA | TITLE: Little Rock Hispanic Education Family Foundation et. al., Applications for New LPFM Stations.
|  | SUMMARY: The Commission will consider a Memorandum Opinion and Order concerning the denial of an Informal Objection to applications for construction permits for new LPFM stations.
5 | CONSUMER & GOVERNMENTAL AFFAIRS | TITLE: Ministry of Communications of the Archdiocese of Miami, FL; Closed Captioning Petitions for Waiver; Application for Review.
|  | SUMMARY: The Commission will consider a Memorandum Opinion and Order addressing an Application for Review seeking review of the Bureau's dismissal of the Ministry's petition for exemption from the Commission's closed captioning requirements.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-30134 Filed 12-14-16; 8:45 am]

BILLING CODE 6712-01-P